NATIONAL FOUNDATION ON THE ARTS AND THE HUMANITIES

National Endowment for the Arts; Arts Advisory Panel

Pursuant to section 10(a)(2) of the Federal Advisory Committee Act (Pub. L. 92-463), as amended, notice is hereby given that two meetings of the Arts Advisory Panel to the National Council on the Arts will be held at the Nancy Hanks Center, 1100 Pennsylvania Avenue, NW., Washington, DC 20506 as follows:

Folk & Traditional Arts (Access to Artistic Excellence): June 9-10, 2005, Room 716. This meeting, from 9 a.m. to 6:30 p.m. on June 9, and from 9 a.m. to 4 p.m. on June 10, will be closed.

Music (Access to Artistic Excellence): June 13-14, 2005, Room 714. A portion of this meeting, from 4:15 p.m. to 5 p.m. on Tuesday, June 14th, will be open to the public for policy discussion. The remainder of the meeting, from 9 a.m. to 6 p.m. on June 13th, and from 9 a.m. to 4:15 p.m. and 5 p.m. to 5:30 p.m. on June 14th, will be closed.

These meetings are for the purpose of Panel review, discussion, evaluation, and recommendations on financial assistance under the National Foundation on the Arts and the Humanities Act of 1965, as amended, including information given in confidence to the agency. In accordance with the determination of the Chairman of April 8, 2005, these sessions will be closed to the public pursuant to subsection (c)(6) of section 552b of Title 5, United States Code.

Further information with reference to this meeting can be obtained from Ms. Kathy Plowitz-Worden, Office of Guidelines & Panel Operations, National Endowment for the Arts, Washington, DC 20506, or call 202/682-5691.

Dated: May 2, 2005.
Kathy Plowitz-Worden,
Panel Coordinator, Panel Operations, National Endowment for the Arts.

[FR Doc. 05-9016 Filed 5-5-05; 8:45 am]

BILLING CODE 7537-01-P